DEPARTMENT OF HOUSING AND URBAN DEVELOPMENT

[Docket No. FR-5500-FA-02]

Announcement of Funding Awards: Office of Healthy Homes and Lead Hazard Control Grant Programs for Fiscal Year (FY) 2011

AGENCY: Office of Healthy Homes and Lead Hazard Control, HUD.

ACTION: Announcement of funding awards.

SUMMARY: In accordance with Section 102(a)(4)(C) of the Department of Housing and Urban Development Reform Act of 1989, this announcement notifies the public of funding decisions made by the Department in competitions for funding under the Office of Healthy Homes and Lead Hazard Control Grant Program Notices of Funding Availability. This announcement contains the name and address of the award recipients and the amounts of award awarded under the Consolidated Appropriations Act, 2011 and prior-year appropriations.

FOR FURTHER INFORMATION CONTACT: Dr. Warren Friedman, Office of Healthy Homes and Lead Hazard Control, Department of Housing and Urban Development, Room 8236, 451 Seventh Street SW., Washington, DC 20410, telephone number 202-402-7574. Hearing- and speech-impaired persons may access the number above via TTY by calling the toll free Federal Relay Service at telephone number 1-800-877-8339.

SUPPLEMENTARY INFORMATION: The FY2011 awards were announced May 9, 2011. These awards were the result of competitions announced in a Federal Register notice published on May 18, 2011 for Lead Based Paint Hazard Control and Lead Hazard Reduction Demonstration Programs (FR-5500-N-02); on May 18, 2011 for the Healthy Homes Production Program (FR-5500-N-03); on May 9, 2011 for Lead Technical Studies and Healthy Homes Technical Studies Programs (FR-5500-N-15); and on May 20, 2011 for Asthma in Public and Multifamily Housing (FR-5500-N-06). The purpose of the competitions was to award funding for grants and cooperative agreements for the Office of Healthy Homes and Lead Hazard Control Grant Programs. Applications were scored and selected on the basis of selection criteria contained in these Notices. A total of $112,223,940 was awarded under the HUD appropriations act for fiscal year 2011, namely, the Department of Defense and Full-Year Continuing Appropriations Act, 2011, Public Law 112-10 and prior year appropriations. In accordance with Section 102(a)(4)(C) of the Department of Housing and Urban Development Reform Act of 1989 (103 Stat. 1987; 42 U.S.C. 3545), the Department is publishing the names, addresses, and the amount of these awards as follows:

1. Lead Based Paint Hazard Control Grant Program

A total of $43,206,000 was awarded to 22 grantees for the Lead Based Paint Hazard Control Grant Program and an additional $1,999,971 was awarded to 20 out of the 29 grantees for the Healthy Homes Initiative under the Consolidated Appropriations Act, 2011: City of Phoenix, 200 W. Washington Street, 4th Floor, Phoenix, AZ 85003-1611, $2,475,000; City of Fresno, 2600 Fresno Street, 3rd Floor, Fresno, CA 93721-3604, $2,475,000; City of Pomona, 505 South Garvey Avenue, P.O. Box 660, Pomona, CA 91766-3322, $2,475,000; City of South Lake Tahoe, 1901 Airport Drive, Suite 107, South Lake Tahoe, CA 96150-7004, $2,000,000; County of Alameda, 2000 Embarcadero, Suite #300, Oakland, CA 94606-5334, $2,134,863; City of Waterbury, One Jefferson Square, Waterbury, CT 06706-1102, $2,475,000; City of Davenport, 226 West 4th Street, Davenport, IA 52801-1308, $2,475,000; City of Waterloo, 620 Mulberry Street, Waterloo, IA 50703-5713, $1,705,557; Polk County, 111 Court Street, Suite 300, Des Moines, IA 50309-2218, $2,475,000; County of Kane, 719 Batavia Avenue, Geneva, IL 60134-3077, $1,040,796; County of Peoria, 2116 N. Sheridan Road, Peoria, IL 61604-3457, $2,475,000; Kentucky Department for Public Health Environmental Lead Program, 275 East Main Street, Mail Stop HS1E-B, Frankfort, KY 40621-0001, $1,099,971; City of Boston, 26 Court Street, Boston, MA 02108-2501, $2,475,000; City of Lynn, 3 City Hall Square, Lynn, MA 01901-1019, $2,469,051; City of Muskegon, 900 Terrace, Muskegon, MI 49442-3357, $1,100,000; City of High Point, 211 S. Hamilton, High Point, NC 27260-5232, $2,475,000; Erie County, 95 Franklin Street, Buffalo, NY 14202-3904, $2,375,000; Redevelopment Authority of the City of Erie (ERA), 1001 State Street, Suite 1100, Erie, PA 16501-1313, $2,475,000; City of Petersburg, 135 N. Union Street, Petersburg, VA 23803-3267, $1,100,000; City of Roanoke, 215 Church Avenue, Room 310 North, Roanoke, VA 24011-1518, $1,855,733; City of Burlington, 149 Church Street, City Hall, Burlington, VT 05401-8412, $2,475,000; City of Waukesha, A Municipal Corporation, City Hall, 201 Delafield Street, Room 200, Waukesha, WI 53189-3649, $1,100,000.

2. Lead Hazard Reduction Demonstration Grant Program

A total of $47,904,000 was awarded to 17 grantees for the Lead Hazard Reduction Demonstration Grant Program under the Consolidated Appropriations Act, 2011: City of Chicago, Department of Public Health, 333 South State Street, Room 200, Chicago, IL 60604, $3,000,000; City of St. Louis Community Development Administration, 1015 Locust Street, Suite 1200, St. Louis, MO 63101, $3,000,000; Hennepin County, 417 North 5th Street, Suite 320, Minneapolis, MN 55401, $3,000,000; State of Connecticut Department of Social Services, 25 Sigourney Street, Hartford, CT 06106, $3,000,000; City of San Antonio, 1400 South Flores, San Antonio, TX 78204, $3,000,000; City of Memphis, 125 North Main, Memphis, TN 38103, $3,000,000; City of Columbus Department of Development, 50 West Gay Street, 3rd Floor, Columbus, OH 4321, $3,000,000; Health and Hospital Corporation of Marion County, 3838 North Rural Street, Indianapolis, IN 46205, $3,000,000; City of Philadelphia, 2100 West Girard Avenue, Philadelphia, PA 19130, $3,000,000; Houston Department of Health and Human Services, 8000 North Stadium Drive, 2nd Floor, Houston, TX 77054, $3,000,000; City of Austin, 1000 East 11th Street, Suite 200, Austin, TX 78702, $2,500,000; City of Wilmington, 800 North French Street, Wilmington, DE 19801, $2,589,695; County of Harris, 1001 Preston, Suite 900, Houston, TX 77002, $2,700,000; Winnebago County Health Department, 401 Division Street, Rockford, IL 61104, $2,885,700; Malden Redevelopment Authority-City of Malden, Massachusetts, 200 Pleasant Street, Malden, MA 02148, $3,000,000; City of Lansing, 124 West Michigan Avenue, Lansing, MI 48933, $1,728,605.

3. Healthy Homes Production Grant Program

A total of $15,623,257 was awarded to 9 grantees for the Healthy Homes Production Grant Program under the Consolidated Appropriations Act, 2010: Environmental Health Watch, 3500 Lorain Avenue, Suite 301, Cleveland, OH 44113, $929,990; Hennepin County, 417 North 5th Street, Suite 320, Minneapolis, MN 55401, $1,860,000; City of Los Angeles, 1200 West 7th Street, 8th Floor, Los Angeles, CA, 90017, $1,860,000; Coalition to End Childhood Lead Poisoning, 2714 Hudson Street, Baltimore, MD 21224, $930,000; State of Connecticut Department of Social Services, 25 Sigourney Street, Hartford, CT 06106, $1,860,000; City of Minneapolis, 250 South 4th Street, Room 414, Minneapolis, MN 55415, $1,860,000; Health and Hospital Corporation of Marion County, 3838 North Rural Street, Indianapolis, IN 46205, $1,713,122; City of Akron, 166 South High Street, Municipal Building, Room 401, Akron, OH 44308, $1,860,000; City of San Antonio, 1400 South Flores, San Antonio, TX 78204, $1,126,888.

4. Lead Technical Studies Grant Program

A total of $545,513 was awarded to 2 grantees for the Lead Technical Studies Grant Program under the Consolidated Appropriations Act, 2011: QuanTech, Inc., 2020 14th Street North, Suite 560, Arlington, VA 22201-2512, $248,100; Tulane University, 1430 Tulane Avenue, EP-15, New Orleans, LA 70112-2699, $251,900.

5. Healthy Homes Technical Studies Grant Program

A total of $1,840,712 was awarded to 3 grantees for Healthy Homes Technical Studies Grant Program under the Consolidated Appropriations Act, 2011: North Carolina State, 2701 Sullivan Dr., Admin III; Box 7514, Raleigh, NC 27695-7614, $541,179; National Center for Healthy Housing, 10320 Little Patuxent Pkwy, Columbia, MD 21044-3346, $649,533; The Trustees of Columbia University in the City of New York, 630 West 168th Street—Box 49, New York 10032-3702, $650,000.

6. Asthma Interventions in Public and Assisted Multifamily Housing Grant Program

A total of $1,150,000 was awarded to 3 grantees for the Asthma Interventions in Public and Assisted Multifamily Housing Grant Program under the Consolidated Appropriations Act, 2011: Michigan Department of Community Health, P.O. Box 30195, 201 Townsend Street, Lansing, MI 48909-0195, $450,000; Minnesota Department of Health, 625 Robert Street North, P.O. Box 64975, St. Paul, MN 55164-0975, $409,288; Boston Medical Center Corporation, One Boston Medical Center Place, Boston, MA 02118-2392, 450,000.

Dated: March 26, 2012.
Warren Friedman,
Acting Deputy Director, Office of Healthy Homes and Lead Hazard Control.

[FR Doc. 2012-7722 Filed 3-29-12; 8:45 am]

BILLING CODE 4210-67-P